DEPARTMENT OF COMMERCE

International Trade Administration

The Manufacturing Council: Establishment of The Manufacturing Council

AGENCY: International Trade Administration, U.S. Department of Commerce.

ACTION: Notice of establishment.

SUMMARY: The Department of Commerce, having determined that it is in the public interest in connection with the performance of duties imposed on the Department by law, and with the concurrence of the General Services Administration, announces establishment of The Manufacturing Council. This advisory committee will provide oversight and advice regarding implementation of the “President's Manufacturing Initiative,” announced January 16, 2004.

FOR FURTHER INFORMATION CONTACT: J. Marc Chittum, Room 2015B, Washington, DC, 20230 (Phone: 202-482-1124).

Dated: April 6, 2004.
J. Marc Chittum,
Designated Federal Officer, Office of Advisory Committees.

[FR Doc. 04-8415 Filed 4-13-04; 8:45 am]

BILLING CODE 3510-DR-P